DEPARTMENT OF AGRICULTURE

Animal and Plant Health Inspection Service

[Docket No. APHIS-2022-0050]

Notice of Request for Revision to and Extension of Approval of an Information Collection; Animal Welfare

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the Animal Welfare Act regulations for the humane handling, care, treatment, and transportation of certain animals by dealers, exhibitors, operators of auction sales, research facilities, carriers, and intermediate handlers.

DATES: We will consider all comments that we receive on or before November 1, 2022.

ADDRESSES: You may submit comments by either of the following methods:

• Federal eRulemaking Portal: Go to www.regulations.gov. Enter APHIS-2022-0050 in the Search field. Select the Documents tab, then select the Comment button in the list of documents.

• Postal Mail/Commercial Delivery: Send your comment to Docket No. APHIS-2022-0050, Regulatory Analysis and Development, PPD, APHIS, Station 3A-03.8, 4700 River Road, Unit 118, Riverdale, MD 20737-1238.

Supporting documents and any comments we receive on this docket may be viewed at regulations.gov or in our reading room which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Animal Welfare Act regulations, contact Dr. Lance Bassage, Director, National Policy Staff, Animal Care, APHIS, 4700 River Road, Riverdale, MD 20737-1231; phone: (970) 494-7478; email: animalcare@usda.gov. For detailed information on the information collection process, contact Mr. Joseph Moxey, APHIS' Paperwork Reduction Act Coordinator; phone: (301) 851-2483; email: joseph.moxey@usda.gov.

SUPPLEMENTARY INFORMATION: Title: Animal Welfare.

OMB Control Number: 0579-0036.

Type of Request: Revision to and extension of approval of an information collection.

Abstract: Under the Animal Welfare Act (AWA, 7 U.S.C. 2131 et seq.), the Secretary of Agriculture is authorized to promulgate standards and other requirements governing the humane handling, care, treatment, and transportation of certain animals by dealers, exhibitors, operators of auction sales, research facilities, carriers, and intermediate handlers. The Secretary has delegated responsibility for administering the AWA to the U.S. Department of Agriculture's Animal and Plant Health Inspection Service (APHIS), Animal Care.

Definitions, regulations, and standards established under the AWA are contained in 9 CFR parts 1, 2, and 3 (referred to below as the regulations). Part 1 contains definitions for terms used in parts 2 and 3. Part 2 provides administrative requirements and sets forth institutional responsibilities for regulated parties, including licensing requirements for dealers, exhibitors, and operators of auction sales. Part 3 provides standards for the humane handling, care, treatment, and transportation of covered animals, and consists of subparts A through E, which contain specific standards for dogs and cats, guinea pigs and hamsters, rabbits, nonhuman primates, and marine mammals, respectively, and subpart F, which sets forth general standards for warmblooded animals not otherwise specified in part 3.

Administering the AWA requires the use of information collection activities such as license applications and renewals; registration applications and updates; annual reports; acknowledgement of regulations and standards; inspections; requests; notifications; agreements; plans; written program of veterinary care and health records; itineraries; applications and permits; records of acquisition, disposition, or transport of animals; official identification; variances; protocols; health certificates; complaints; marking requirements; and recordkeeping. These activities provide APHIS with the data necessary for the review and evaluation of program compliance by regulated facilities and provide a workable enforcement system to carry out the requirements of the AWA and the intent of Congress without resorting to more detailed and stringent regulations and standards that could be more burdensome to regulated facilities.

The information collection activities listed above include activities merged from Office of Management and Budget (OMB) control numbers 0579-0470 (Animal Welfare; Amendments to Licensing Provisions and to Requirements for Dogs) and 0579-0479 (Animal Welfare; Handling of Animals; Contingency Plans). After OMB approves this combined information collection (OMB control number 0579-0036), APHIS will retire OMB control numbers 0579-0470 and 0579-0479.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.55 hours per response.

Respondents: Individuals or households; businesses or other for-profit entities; not-for-profit institutions; farms; State, local, or Tribal government officials; and foreign government officials.

Estimated annual number of respondents: 47,413.

Estimated annual number of responses per respondent: 16.

Estimated annual number of responses: 779,579.

Estimated total annual burden on respondents: 424,571 hours. (Due to averaging, the total annual burden hours may not equal the product of the annual number of responses multiplied by the reporting burden per response.)

All responses to this notice will be summarized and included in the request for OMB approval. All comments will also become a matter of public record.

Done in Washington, DC, this 29th day of August 2022.
Anthony Shea,
Administrator, Animal and Plant Health Inspection Service.

[FR Doc. 2022-18967 Filed 9-1-22; 8:45 am]

BILLING CODE 3410-34-P